DEPARTMENT OF HOMELAND SECURITY

Coast Guard

33 CFR Part 165

[Docket No. USCG-2018-0597]

Safety Zones; Recurring Events in Captain of the Port Duluth Zone—Duluth Fourth Fest Fireworks

AGENCY: Coast Guard, DHS.

ACTION: Notice of enforcement of regulation.

SUMMARY: The Coast Guard will enforce the safety zone for the Duluth Fourth Fest in Duluth, MN from 9:30 p.m. through 11:30 p.m. on July 4, 2018, with a rain date of 9:30 p.m. through 11:30 p.m. on July 5, 2018. This action is necessary to protect participants and spectators during the Duluth Fourth Fest Fireworks. During the enforcement period, entry into, transiting, or anchoring within the safety zone is prohibited unless authorized by the Captain of the Port Duluth or their designated on-scene representative.

DATES: The regulations in 33 CFR 165.943(b) will be enforced from 9:30 p.m. through 11:30 p.m. on July 4, 2018, with a rain date of 9:30 p.m. through 11:30 p.m. on July 5, 2018, for the Duluth Fourth Fest Fireworks safety zone, § 165.943(a)(3).

FOR FURTHER INFORMATION CONTACT: If you have questions on this document, call or email LT John Mack, Chief of Waterways Management, Coast Guard; telephone (218)725-3818, email DuluthWWM@uscg.mil.

SUPPLEMENTARY INFORMATION: The Coast Guard will enforce the safety zone for the annual Duluth Fourth Fest Fireworks in 33 CFR 165.943(a)(3) from 9:30 p.m. through 11:30 p.m. on July 4, 2018, with a rain date of 9:30 p.m. through 11:30 p.m. on July 5, 2018, on all waters of Duluth Harbor bounded by the arc of a circle with a 900-foot radius from the fireworks launch site with its center in position 46°46′14″ N, 092°06′16″ W.

The regulations for safety zones within the Captain of the Port Duluth § 165.943(b), apply for these fireworks displays. Entry into, transiting, or anchoring within the safety zone is prohibited unless authorized by the Captain of the Port Duluth or their designated on-scene representative. The Captain of the Port's designated on-scene representative may be contacted via VHF Channel 16.

This document is issued under authority of 33 CFR 165.943 and 5 U.S.C. 552(a). In addition to this publication in the Federal Register, the Coast Guard will provide the maritime community with advance notification of the enforcement of this safety zone via Broadcast Notice to Mariners. The Captain of the Port Duluth or their on-scene representative may be contacted via VHF Channel 16.

Dated: June 14, 2018.
E.E. Williams,
Commander, U.S. Coast Guard, Captain of the Port Duluth.

[FR Doc. 2018-13240 Filed 6-19-18; 8:45 am]

BILLING CODE 9110-04-P